DEPARTMENT OF HOUSING AND URBAN DEVELOPMENT

[Docket No. FR-4815-N-46]

Notice of Submission of Proposed Information Collection to OMB; Emergency Comment Request; Ending Chronic Homelessness Through Employment and Housing Application

AGENCY: Office of Special Needs Assistance Programs, HUD.

ACTION: Notice of proposed information collection.

SUMMARY: The proposed information collection requirement described below has been submitted to the Office of Management and Budget (OMB) for emergency review and approval, as required by the Paperwork Reduction Act. The Department is soliciting public comments on the subject proposal.

This information collection supports the Collaborative Initiative to Help End Chronic Homelessness. Information is needed to assist in the selection of proposals submitted to HUD for the awarded funds.

DATES: Comments Due Date: August 7, 2003.

ADDRESSES: Interested persons are invited to submit comments regarding this proposal. Comments must be received within seven (7) days from the date of this Notice. Comments should refer to the proposal by name/or OMB approval number) and should be sent to: Lauren Wittenberg, HUD Desk Officer, Office of Management and Budget, New Executive Office Building, Washington, DC 20503; e-mail: Lauren_Wittenberg@omb.eop.gov; fax: 202-395-6974.

FOR FURTHER INFORMATION CONTACT: Wayne Eddins, Reports Management Officer, AYO, Department of Housing and Urban Development, 451 Seventh Street, SW., Washington, DC 20410; e-mail: Wayne_Eddins@HUD.gov; telephone: (202) 708-2374. This is not a toll-free number. Copies of available documents submitted to OMB may be obtained from Mr. Eddins.

SUPPLEMENTARY INFORMATION: This Notice informs the public that the U.S. Department of Housing and Urban Development (HUD) has submitted to OMB, for emergency processing of a new information collection for selecting applicants for the joint HUD/DOL Notice of Funding Availability for Ending Chronic Homelessness through Employment and Housing initiative.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Ending Chronic Homelessness through Employment and Housing Initiative.

Description of Information Collection: Prospective grant recipients may apply for the Collaborative Initiative to Help End Chronic Homelessness program, which was a joint initiative with HHS and VA earlier this year (January 2003) Notice of Funding Availability (NOFA). With this partnership with DOL, HUD's permanent housing grants will supplement each cooperative agreement effort with an additional award, to support permanent housing for individuals who are “chronically homeless” served through the DOL cooperative agreement.

OMB Control Number: Pending.

Agency Form Numbers: HUD 40076.1.

Members of Affected Public: Non-profit or public entities such as municipality, Public Housing Agencies, or nonprofit organization that meet HUD's requirements.

Estimation of the Total Numbers of Hours Needed to Prepare the Information Collection Including Number of Respondents, Frequency of Responses, and Hours of Response: An estimation of the total number of hours needed to prepare the information collection is—400, number of respondents is 100, frequency of response is 1 per annum, and the total hours per respondent is 44 hours.

Authority: The Paperwork Reduction Act of 1995, 44 U.S.C. 35, as amended.

Dated: July 16, 2003.
Donna Eden,
Director, Investments, Strategies, Policy and Management, Office of the Chief Information Officer.

[FR Doc. 03-18754 Filed 7-23-03; 8:45 am]

BILLING CODE 4210-72-P